DEPARTMENT OF HEALTH AND HUMAN SERVICES

National Institutes of Health

Supporting Fairness and Originality in NIH Research Applications

AGENCY: National Institutes of Health, HHS.

ACTION: Notice; correction.

SUMMARY: The Department of Health and Human Services, National Institutes of Health published a Notice in the Federal Register on August 5, 2025. That notice requires a correction in the SUPPLEMENTARY INFORMATION section.

DATES: This policy is effective for applications submitted to the September 25, 2025, receipt date and beyond.

FOR FURTHER INFORMATION CONTACT: Further information about this policy notice may be directed to Dr. Lyric Jorgenson, NIH Office of Science Policy, at (301) 496-6837 or (SciencePolicy@od.nih.gov).

SUPPLEMENTARY INFORMATION:

Correction

In the Federal Register of August 5, 2025, in FR Doc. 2025-14744, on page 37531, as found within the SUPPLEMENTARY INFORMATION section. Currently reads “https:l/grants.nih.govlgrants/policylnihgps/html5/section_2/2.1.2_recipient staffhtm” and is corrected to read: “https://grants.nih.gov/grants/policy/nihgps/html5/section_2/2.1.2_recipient_staff.htm”. Also “https:/lgrants.nih.govlgrants/policy/nihgps/html5/section_4/4.1.27_research misconduct.htm” and is corrected to read: “https://grants.nih.gov/grants/policy/nihgps/html5/section_4/4.1.27_research_misconduct.htm”.

Policy

NIH will not consider applications that are either substantially developed by AI, or contain sections substantially developed by AI, to be original ideas of applicants. If the detection of AI is identified post award, NIH may refer the matter to the Office of Research Integrity to determine whether there is research misconduct while simultaneously taking enforcement actions (see: https://www.ecfr.gov/current/title-2/subtitle-A/chapter-II/part-200/subpart-D/subject-group-ECFR86b76dde0e1e9dc/section-200.339) including but not limited to disallowing costs, withholding future awards, wholly or in part suspending the grant, and possible termination.

NIH will only accept six new, renewal, resubmission, or revision applications from an individual Principal Investigator/Program Director or Multiple Principal Investigator for all council rounds in a calendar year. This policy applies to all activity codes except T activity codes and R13 Conference Grant Applications. Based on recent data, this limit will affect a relatively small number of Principal Investigators while enabling the NIH to maintain consistently high-quality grant application review and appropriately steward taxpayer dollars.

Alycia Booth,
NIH Federal Register Certifying Official, National Institutes of Health.

[FR Doc. 2025-16218 Filed 8-22-25; 8:45 am]

BILLING CODE 4140-01-P